SMALL BUSINESS ADMINISTRATION

[License No. 02/02-0700]

RCS SBIC Fund II, L.P.; Conflicts of Interest Exemption

Notice is hereby given that RCS SBIC Fund II, L.P., 800 Boylston Street, Boston, MA 02199, a Federal Licensee under the Small Business Investment Act of 1958, as amended (“the Act”), in connection with the financing of a small business concern, has sought an exemption under Section 312 of the Act and Section 107.730, Financings which Constitute Conflicts of Interest of the Small Business Administration (“SBA”) Rules and Regulations (13 CFR 107.730). RCS SBIC Fund II, L.P. is seeking a written exemption from SBA for proposed financings to Corporate Relocation, LLC, 8020 Consulting LLC and Next Net Media LLC.

These financings are brought within the purview of § 107.730(a) of the Regulations because RCS SBIC Fund II, L.P. will purchase these investments from Riverside Investment Management Company, LLC, an Associate of RCS SBIC Fund II, L.P. as defined in of § 107.50 of the Regulations. Therefore, this transaction is considered Financing which constitute conflicts of interest requiring SBA's prior written exemption.

Notice is hereby given that any interested person may submit written comments on this transaction within fifteen days of the date of this publication to the Associate Administrator, Office of Investment and Innovation, U.S. Small Business Administration, 409 Third Street SW, Washington, DC 20416.

United States Small Business Administration.
Bailey DeVries,
Associate Administrator, Office of Investment and Innovation.

[FR Doc. 2021-27400 Filed 12-16-21; 8:45 am]

BILLING CODE P